DEPARTMENT OF COMMERCE

[I.D. 102300E ]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Federal Fisheries Permit Family of Forms

Form Number(s): None.

OMB Approval Number: 0648-0205.

Type of Request: Regular submission.

Burden Hours: 1,583.

Number of Respondents: 6,970.

Average Hours Per Response: 5 minutes for a dealer permit application; 20 minutes for a vessel permit application; 45 minutes for a aquacultured live rock site evaluation form; 5 minutes for tracking wreckfish individual transferable quotas; 5 minutes for an observer notification, for a notification of lost or stolen crab traps, for a notification of a golden crab transit, or for an aquacultured live rock notification of harvest activity; and 15 minutes for a notification of trap retrieval.

Needs and Uses: Participants in Federally-regulated fisheries in the Southeast U.S. are required to obtain Federal fishing permits. The information on the permit application is needed to determine eligibility, to provide data for the management of the fishery, and to aid enforcement of regulations. Permitted vessels are also required to provide notifications prior to certain specified activities.

Affected Public: Business and other for-profit organizations, and individuals.

Frequency: On occasion, biennial.

Respondent’s Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 19, 2000.
Madeleine Clayton,
Departmental Forms Clearance Officer, Office of the Chief Information Officer

[FR Doc. 00-27695 Filed 10-26-00; 8:45 am]

BILLING CODE: 3510-22 -S